DEPARTMENT OF STATE

[Public Notice: 9560]

Plenary Meeting of the Binational Bridges and Border Crossings Group in Mexico City, Mexico, May 18, 2016

AGENCY: Department of State.

ACTION: Notice.

SUMMARY: Delegates from the United States and Mexican governments, the states of California, Arizona, Texas, and New Mexico, and the Mexican states of Baja California, Sonora, Chihuahua, Coahuila, Nuevo Leon, and Tamaulipas, will participate in a Plenary Meeting of the U.S.-Mexico Binational Bridges and Border Crossings Group on Wednesday, May 18, 2016 in Mexico City, Mexico. The purpose of this meeting is to discuss operational matters involving existing and proposed international bridges and border crossings and their related infrastructure, and to exchange views on policy as well as technical information. This meeting will include a public session on Wednesday, May 18, 2016, from 8:45 a.m. until 11:30 a.m. This session will allow proponents of proposed bridges and border crossings and related projects to make presentations to the delegations and members of the public.

FOR FURTHER INFORMATION CONTACT: For further information on the meeting and to attend the public session, please contact the Mexico Desk's Border Affairs Unit, via email at WHABorderAffairs@state.gov, by phone at 202-647-9894, or by mail at Office of Mexican Affairs—Room 3924, Department of State, 2201 C St. NW., Washington, DC 20520.

Dated: May 6, 2016.
Rachel Poynter,
Acting Director, Office of Mexican Affairs, Department of State.

[FR Doc. 2016-11351 Filed 5-12-16; 8:45 am]

BILLING CODE 4710-29-P